DEPARTMENT OF COMMERCE

Foreign-Trade Zones Board

[B-18-2017]

Foreign-Trade Zone (FTZ) 141—Monroe County, New York; Authorization of Production Activity; Xerox Corporation; Subzone 141B; (Xerographic Bulk Toner and Toner Cartridges); Webster, New York

On March 17, 2017, The County of Monroe, New York, grantee of FTZ 141, submitted a notification of proposed production activity to the FTZ Board on behalf of Xerox Corporation, within Subzone 141B, in Webster, New York.

The notification was processed in accordance with the regulations of the FTZ Board (15 CFR part 400), including notice in the Federal Register inviting public comment (82 FR 16025-16026, March 31, 2017). On July 17, 2017, the applicant was notified of the FTZ Board's decision that no further review of the activity is warranted at this time. The production activity described in the notification was authorized, subject to the FTZ Act and the FTZ Board's regulations, including Section 400.14.

Dated: July 19, 2017.
Elizabeth Whiteman,
Acting Executive Secretary.

[FR Doc. 2017-15463 Filed 7-21-17; 8:45 am]

BILLING CODE 3510-DS-P